DEPARTMENT OF DEFENSE

Office of the Secretary

[Docket ID: DoD-2023-HA-0093]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by March 14, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lane Purvis, (571) 372-0460, whs.mc-alex.esd.mbx.dd-dod-information-collections@mail.mil.

SUPPLEMENTARY INFORMATION:

Title; Associated Form; and OMB Number: Prescription Drop Off/Activation Form; DHA Form 298; OMB Control Number: 0720-PDOA.

Type of Request: New.

Number of Respondents: 100,000.

Responses per Respondent: 1.

Annual Responses: 100,000.

Average Burden per Response: 3 minutes.

Annual Burden Hours: 5,000.

Needs and Uses: Defense Health Affairs (DHA) Form 298, Prescription Drop-Off/Activation, is a standardized form for prescription activation/drop-off across all military medical treatment facilities (MTFs). DHA Form 298 allows pharmacy patients the option to request the MTF pharmacy activate/process their prescriptions without having to wait in a line to speak with pharmacy staff. This may also include the ability to drop off the form outside of normal pharmacy hours. Copies of the form may be provided physically in the MTF, or it is possible that MTFs may provide it electronically for patient use to complete/print at their convenience. The MTF pharmacy uses the information provided in the form to process the requested prescriptions for the patients to pick up later.

Affected Public: Individuals or households.

Frequency: On occasion.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Lane Purvis.

Requests for copies of the information collection proposal should be sent to Mr. Purvis at whs.mc-alex.esd.mbx.dd-dod-information-collections@mail.mil.

Dated: February 7, 2024.
Aaron T. Siegel,
Alternate OSD Federal Register Liaison Officer, Department of Defense.

[FR Doc. 2024-02946 Filed 2-12-24; 8:45 am]

BILLING CODE 6001-FR-P